DEPARTMENT OF JUSTICE

Antitrust Division

Notice Pursuant to the National Cooperative Research and Production Act of 1993—Center for Waste Reduction Technologies (“CWRT”) Sustainability Metrics Project

Notice is hereby given that, on October 8, 1999, pursuant to section 6(a) of the National Cooperative Research and Production Act of 1993, 15 U.S.C. 4301 et seq. (“the Act”), Center for Waste Reduction Technologies (“CWRT”) has filed written notifications simultaneously with the Attorney General and the Federal Trade Commission disclosing (1) The identities of the parties and (2) the nature and objectives of the venture. The notifications were filed for the purpose of invoking the Act's provisions limiting the recovery of antitrust plaintiffs to actual damages under specified circumstances. Pursuant to Section 6(b) of the Act, the identities of the parties are Center for Waste Reduction Technologies, New York, NY; America Institute of Chemical Engineers, New York, NY; Arthur D. Little, Inc., Cambridge, MA; Dow Chemical Co., Midland, MI; Eastman Chemical Co., Kingsport, TN; Eastman Kodak Co., Rochester, NY; E.I. du Pont de Nemours & Co., Wilmington, DE; Merck & Company, Whitehouse Station, NJ; Minnesota Mining & Manufacturing Co., St. Paul, MN; Monsanto Company, St. Louis, MO; Owens Corning Co., Toledo, OH; Rohm & Haas Co., Philadelphia, PA; and SmithKline Beecham Corp., King of Prussia, PA. The nature and objectives of the venture are to develop a set of tangible metrics to assess the economic and environmental impact of business operations. The metrics are intended to allow the users to examine various options of chemistry, process, product and even product line to determine their relative contributions to sustainability. These metrics being developed by the project will cover mass and energy intensity, pollutants dispersion and the use of water, renewables and recyclables.

Constance K. Robinson,
Director of Operations, Antitrust Division.

[FR Doc. 00-15601 Filed 6-20-00; 8:45 am]

BILLING CODE 4410-11-M